ENVIRONMENTAL PROTECTION AGENCY

[FRL-8911-1]

Meeting of the Mid-Atlantic/Northeast Visibility Union (MANE-VU) Stakeholder Briefing

AGENCY: Environmental Protection Agency.

ACTION: Notice of meeting.

SUMMARY: The United States Environmental Protection Agency (EPA) is announcing the Stakeholder Briefing of the Mid-Atlantic/Northeast Visibility Union (MANE-VU). This meeting will deal with matters relative to Regional Haze and visibility improvement in Federal Class I areas within MANE-VU.

DATES: The meeting will be held on June 10, 2009 starting at 1 p.m. (EDT).

Location: Holiday Inn BWI Airport, 890 Elkridge Landing Road, Linthicum, MD 21090; (410) 859-8400.

FOR FURTHER INFORMATION CONTACT: For questions regarding meeting specifics, documents and press inquiries contact: Kromeklia Bryant, Ozone Transport Commission, 444 North Capitol Street, NW., Suite 638, Washington, DC 20001; (202) 508-3840; e-mail: ozone@otcair.org; Web site: http://www.manevu.org.

SUPPLEMENTARY INFORMATION: The Mid-Atlantic/Northeast Visibility Union (MANE-VU) was formed in 2001, in response to EPA's issuance of the Regional Haze rule. MANE-VU's members include: Connecticut, Delaware, the District of Columbia, Maine, Maryland, Massachusetts, New Hampshire, New Jersey, New York, Pennsylvania, Rhode Island, Vermont, the Penobscot Indian Nation, the St. Regis Mohawk Tribe along with EPA and Federal Land Managers.

Type of Meeting: This meeting will be open to the public.

Agenda: Copies of the final agenda are available from the OTC office (202) 508-3840; by e-mail: ozone@otcair.org or via the MANE-VU Web site at http://www.manevu.org.

Dated: May 21, 2009.
William C. Early,
Acting Regional Administrator, Region III.

[FR Doc. E9-12552 Filed 5-28-09; 8:45 am]

BILLING CODE 6560-50-P